DEPARTMENT OF TRANSPORTATION

Federal Motor Carrier Safety Administration

[Docket No. FMCSA-2016-0069]

Proposed Pilot Program To Allow Persons Between the Ages of 18 and 21 With Military Driving Experience To Operate Commercial Motor Vehicles in Interstate Commerce

AGENCY: Federal Motor Carrier Safety Administration (FMCSA), DOT.

ACTION: Notice.

SUMMARY: On August 22, 2016, FMCSA proposed a pilot program to meet the requirements of section 5404 of the Fixing America's Surface Transportation (FAST) Act. FMCSA proposed a pilot program to allow a limited number of individuals ages 18, 19, and 20 to operate commercial motor vehicles (CMVs) in interstate commerce, if they have received specified heavy-vehicle driver training while in military service and were hired by a participating motor carrier. This notice provides the details of the pilot program and responds to comments received in response to the August 22, 2016 notice.

FOR FURTHER INFORMATION CONTACT: Mr. Selden Fritschner, Commercial Driver's License Division, Federal Motor Carrier Safety Administration, 1200 New Jersey Avenue SE, Washington, DC 20590-0001, by email at Selden.Fritschner@dot.gov, or by telephone at (202) 366-0677. If you have questions on viewing or submitting material to the docket, contact Docket Services, telephone (202) 366-9826.

SUPPLEMENTARY INFORMATION:

Definitions

For the purposes of this pilot program, FMCSA is using the following definitions:

Approved motor carrier—A motor carrier approved by the Agency to use covered drivers to operate CMVs in interstate commerce that agrees to provide data on covered drivers, control drivers and/or intrastate drivers.

Control Driver—A 21 to 24-year-old driver employed by a motor carrier with a valid commercial driver's license (CDL) who operates CMVs in interstate commerce.

Covered Driver—An 18-, 19-, or 20-year-old driver with military training, in one of the seven Military Occupational Specialties (MOS), as defined below, employed by an approved motor carrier, who may operate in interstate commerce based on the provisions of this pilot program.

Intrastate Driver—An 18-, 19-, or 20-year-old driver employed by a motor carrier who may operate a CMV only in intrastate commerce.

Military Occupational Specialties (MOS)—For the purposes of this Federal Register notice, this term is used as a generic term for all military job classifications that include: 88M—Motor Transport Operator (Army), 92F—Fueler (Army), 2T1—Vehicle Operations (Air Force), 2Fo—Fueler (Air Force), 3E2—Pavement and Construction Equipment (Air Force), E.O.—Equipment Operator (Navy), and 3531—Motor Vehicle Operator (Marine Corps).

Legal Basis

As noted in the August 22, 2016, Federal Register notice, Section 4007 of the Transportation Equity Act for the 21st Century (TEA-21) (Pub. L. 105- 178, 112 Stat. 107) amended 49 U.S.C. 31315 and 31136(e) to give the Secretary of Transportation authority to conduct pilot programs. Section 4007 of TEA-21 also authorizes pilot programs in which one or more exemptions are granted to allow for the testing of innovative alternatives to certain Federal Motor Carrier Safety Regulations (FMCSRs). Section 4007 was implemented through an interim final rule (IFR) on December 8, 1998 (63 FR 67600) and codified at 49 CFR part 381. The IFR was finalized on August 20, 2004 (69 FR 51589). The final rule established procedures to propose and manage pilot programs. FMCSA must publish in the Federal Register a detailed description of each pilot program, including the exemptions being considered, and provide notice and an opportunity for public comment before the effective date of the program. That requirement was fulfilled by the August 22, 2016, notice.

The Agency is required to ensure that the safety measures in the pilot programs are designed to achieve a level of safety that is equivalent to, or greater than, the level of safety that would be achieved through compliance with the safety regulations. The maximum duration of pilot programs is 3 years from the starting date. At the conclusion of each pilot program, FMCSA must report to Congress its findings, conclusions, and recommendations, including suggested amendments to laws and regulations that would enhance motor carrier, CMV, and driver safety, and improve compliance with the FMCSRs.

Section 5404 of the FAST Act (Pub. L. 114-94, 129 Stat. 1312, 1549, Dec. 4, 2015) requires the Secretary of Transportation to conduct a commercial driver pilot program to “. . . study the feasibility, benefits, and safety impacts of allowing a covered driver to operate a commercial motor vehicle in interstate commerce.” A “covered driver” is defined as a member or former member of the armed forces or reserve and national guard components between the ages of 18 and 21, who is qualified in a MOS to operate a CMV or similar vehicle. A covered driver participating in the pilot program may not transport passengers or hazardous cargo that require endorsements, or operate a vehicle in a special configuration. Section 5404 requires this pilot program to collect and analyze data regarding crashes involving covered drivers participating in the program, and drivers under the age of 21 operating CMVs in intrastate commerce.

Discussion of Comments and Responses on the Notice of Proposed Pilot Program

On August 22, 2016, FMCSA published a notice in the Federal Register proposing this pilot program and requesting public comment (81 FR 56745). Sixty-seven comments were submitted to the docket; 40 favored the pilot program and 9 opposed it. The remaining 18 comments were a form letter asking the Agency to either expand the current pilot program or initiate a new one for drivers aged 20 and under who are engaged in agricultural operations. This request is outside of the scope of this pilot program as was defined by the FAST Act.

In addition to private citizens, the following types of entities commented on the notice: Agricultural industry, motor carriers, CMV drivers, insurance industry, professional associations, owner operators, safety advocacy groups, State Driver License Agencies (SDLAs), and other trade associations.

Only a handful of the 40 commenters who favored the pilot program endorsed it without reservation. Commenters generally supported the pilot program, provided FMCSA accepted their recommendations on program implementation. A number of commenters, all of which are motor carriers, supported the pilot program and expressed their interest in participating and employing 18 to 20-year-old drivers. Those generally in favor of the pilot program included the Colorado Department of Revenue, American Association of Motor Vehicle Administrators (AAMVA), National Propane Gas Association (NPGA), National Limousine Association, American Trucking Associations (ATA), Truckload Carriers Association (TCA), Serenity Trucking LLC, and Agricultural Retailers Association.

Organizations and individual commenters including the Commercial Vehicle Training Association (CVTA), the Insurance Institute for Highway Safety (IIHS), and the Owner-Operator Independent Drivers Association (OOIDA) did not expressly support or oppose the pilot program but asked for clarifications and offered recommendations to ensure safety.

Commenters generally opposing the pilot program made several arguments. The most frequent assertions were that drivers 18 to 20 years old are more likely to crash. This was based on the previous efforts to lower the CMV driving age. There was also skepticism that drivers with military experience will yield useful data to determine if all 18-20-year-old drivers can safely operate CMVs. Those opposed to the pilot program included individuals plus representatives of the National Safety Council, Truck Safety Coalition (TSC), Advocates for Highway and Auto Safety (AHAS), Parents Against Tired Truckers, and Citizens for Reliable and Safe Highways. The safety groups provided data on 18 to 20-year-old drivers to document the safety history of this age group. Although AHAS opposed the pilot program in general, it did offer recommendations on the design of the program. Some private citizens expressed their complete disapproval of the pilot program, arguing that it would be a “huge mistake” and “very dangerous” to allow covered drivers to operate in interstate commerce and that by doing so it would “create a higher danger for those on the road.”

George Kern provided statistics from the Center for Disease Control highlighting a variety of situations where teens are more likely to crash. Russ Swift opposes the pilot program saying the data demonstrates that younger drivers are more likely to crash than drivers who are older than 21 years of age. Deborah Hersman of the National Safety Council refers to National Highway Traffic Safety Administration 2014 data that indicated 4,272 people were killed in crashes involving young drivers in 2014. Additionally, Ms. Hersman referred to a study conducted by the University of Michigan Transportation Research Institute that found from 1980‐1984 fatal crash, mileage‐based involvement rates for drivers of large trucks increase with decreasing driver age.

FMCSA's Response: Safety is FMCSA's number one priority. Before a motor carrier or driver is approved to participate in the pilot program, FMCSA will ensure that strict qualification safety standards are met. If at any time during the pilot program, a motor carrier or driver is not complying with the standards, FMCSA may remove the motor carrier and/or driver from the pilot program. The qualification and disqualification standards for the motor carrier and the driver are outlined below.

Pilot Program Design

AAMVA, CVTA, IIHS, and the National Limousine Association offered recommendations to improve safety and asked for clarification on the direction of the pilot program. AAMVA asked how the participants in the pilot program will be differentiated from other commercial learner's permit or CDL holders.

Some commenters, including Werner Enterprises, recommended requiring electronic logging devices and other electronic monitoring equipment. Deborah Lipsitz, Matthew Kelpe, the National Safety Council, AAMVA, NPGA, IIHS, TSC, OOIDA, AHAS, ATA, and Werner Enterprises provided recommendations for the collection and analysis of data.

The Colorado Department of Revenue, IIHS, OOIDA, ATA, and TCA recommended increasing the number of covered drivers.

Werner Enterprises expressed concern over the Agency's lack of appropriate crash accountability factors. Werner Enterprises has concerns about how the Agency is defining “good safety record” and the use of the Safety Measurement System (SMS) and referenced the Government Accountability Office report on SMS.

AHAS noted that previous efforts to lower the age have been consistently rejected and provided information on earlier efforts by the Federal Highway Administration. Therefore, AHAS noted that the pilot program must be designed to collect all available safety data to accurately assess performance. AHAS requested that FMCSA require onboard monitoring systems for a more accurate picture of driver performance—hard braking, jerking of the wheel and alertness.

Deborah Lipsitz and Joe Book recommended not enrolling drivers in the pilot who have been dishonorably discharged from the military.

The Colorado Department of Revenue recommended lowering the age of the control group to 21 to 24-year-old drivers, to make the ages as close as possible to the study group.

FMCSA Response: Approved motor carriers will be exempted from 49 CFR 391.11(b)(1), which prohibits a person from operating a CMV in interstate commerce under the age of 21. The motor carriers will be provided with a letter from FMCSA approving their use of the approved covered drivers. A list of covered drivers that is updated in real-time will be available electronically to law enforcement for confirmation during inspections or investigations.

FMCSA does not agree with increasing the number of covered drivers. FMCSA believes the current sample size is large enough to ensure statistically valid results. More information on the sample size and design may be found in the Federal Notice published elsewhere in this issue of the Federal Register proposing the associated Information Collection Request (ICR). The ICR notice also explains the Agency's research and analysis plans. FMCSA requests that comments on the plan be submitted to the docket for that notice.

FMCSA will continue to use the SMS as a measure of a motor carrier's performance against its peers. The Agency's regulations require FMCSA to ensure that the pilot program design does not jeopardize safety.

FMCSA is not requiring on board monitoring systems for this study because it would be cost-prohibitive for carriers to participate and may minimize participation by smaller carriers. For those carriers that have on-board monitoring systems, the Agency will be requesting information from the technology for the approved motor carriers, but the decision of whether or not to provide it will be the carrier's.

FMCSA concurs with the two commenters who opposed allowing applicants with a dishonorable discharge to participate in the pilot program. The Agency made this decision because Congress' intent was to initiate a pilot program using a subset of drivers (those with military experience and training) that had been exposed to and demonstrated safe practices and discipline. The Agency believes this was to ensure maximum safety for this effort and we believe a driver who received a dishonorable discharge has not demonstrated the discipline Congress anticipated for study participants.

The age parameters for the covered drivers were established by the FAST Act. Based on comments received and a review of literature regarding young drivers, FMCSA is revising the ages of control group to 21-24, as suggested by the Colorado Department of Revenue, to capture data on a group of younger drivers as the point of comparison. In addition, the FAST Act requires FMCSA to also study intrastate drivers aged 18, 19 and 20, as part of this pilot program.

Training for Covered Drivers

CVTA, ATA, and TCA recommended that the Agency require certain levels of training consistent with the Entry Level Driver Training (ELDT) standards. CVTA and Werner Enterprises pointed out that there are differences between military and civilian training; specifically, the military does not teach drivers about log books and the FMCSRs. OOIDA recommended that FMCSA require applicants and participants in the pilot program to have experience operating a heavy motor vehicle while in military service and verification of the types of vehicles the covered drivers were trained on and drove for the military. Both AHAS and TSC commented that FMCSA should ensure that behind the wheel training is provided, including skills needed to deal with critical safety events requiring hard braking or jerking the wheel, and to avoid distracted driving. Two private citizens recommended that drivers to be required to provide proof of training and experience in the military.

FMCSA's Response: A covered driver is an individual who is 18, 19 or 20 years old; a current or former member of the armed forces, reserve, or national guard components; and is qualified in one of the following seven MOS: 88M—Motor Transport Operator (Army), 92F—Fueler (Army), 2T1—Vehicle Operations (Air Force), 2Fo—Fueler (Air Force), 3E2—Pavement and Construction Equipment (Air Force), E.O.—Equipment Operator (Navy), and 3531—Motor Vehicle Operator (Marine Corps). Military personnel qualified in these job classifications receive extensive training and experience that goes beyond the ELDT requirements. FMCSA has carefully reviewed both the knowledge and skills training and, along with AAMVA, the testing of graduates of these seven MOS. Each of the seven MOS provides more than 160 hours of training on all vehicles in the military vehicle fleet. Subsequently, each qualified serviceman is licensed on the individual vehicle, and retested each time he or she changes commands. In addition, members of the military receive recurring training.

FMCSA recognizes there may be an experience gap, as noted by CVTA and TCA. Both mention that military personnel are not taught about the requirements of the FMCSRs, specifically records of duty status and hours of service. The motor carriers that participate in the pilot program will be responsible for training the covered drivers on the FMCSRs to ensure that the pilot program drivers are in compliance. In addition, 49 CFR 390.3(e) requires motor carriers to have knowledge of, and comply with, all applicable FMCSRs. Also, drivers must demonstrate knowledge of the FMCSRs, in order to successfully pass the CDL knowledge and skills tests.

Publication of the Study Results

The IIHS urged FMCSA to conduct the strongest possible study due to crash risk. Three commenters requested that FMCSA share the data generated by the pilot program.

FMCSA's Response: FMCSA will fully analyze the results of the pilot study and will determine the feasibility, benefits, and safety impacts of allowing a covered driver to operate a CMV in interstate commerce. The results of this pilot program will be conveyed to Congress and be publicly available.

General Comments to the Notice

Several commenters provided additional recommendations.

William Young and other commenters recommended the program be managed similar to State Graduated Driver License programs which include specified times and driving conditions for the covered drivers.

FMCSA's Response: Limiting how much the covered drivers may operate would negatively impact the pilot program in several ways. First, if covered drivers operate differently than control group drivers, the data will not be comparable and will negatively impact the Agency's ability to reach conclusions at the end of the pilot program. Second, limiting how approved motor carriers may use the covered drivers may reduce interest in the pilot program and jeopardize the Agency's ability to execute a statistically valid pilot program.

In addition, each of the covered drivers will be hired and monitored by motor carriers approved by FMCSA in accordance with the program guidelines. The motor carriers will monitor each of the covered drivers just as they would all their drivers. FMCSA has established an internal process to monitor both the carrier and pilot program drivers to ensure highway safety is maintained.

Comments: Deborah Lipsitz, Matthew Kelpe, AAMVA, the Colorado Department of Revenue, IIHS, NPGA, the ATA, and TCA expressed concerns about various aspects of the study protocol, including the group size, technology/collection, geographical distribution of the covered and control groups, critical safety factors, and specific requirements for data collection parameters.

FMCSA's Response: Details of the proposed analysis methodologies and statistical methods may be found in the 60-day notice of proposed information collection published elsewhere in today's Federal Register. The parameters described have been peer reviewed and those comments are likewise posted in the 60-day notice. Age, maturity levels, and experience are crucial factors in a driver's safety performance. Trying to compare the performance of an 18-, 19-, or 20-year-old to a 21-, 22-, 23- or 24-year-old will provide a much more accurate comparison than trying to compare an 18-, 19-, or 20-year-old to someone 30 or older. Our control group is similar to an insurance age bracket, which tends to show an increase in safety after 25 years of age. While the data analysis is largely dependent upon the type, amount, and quality of the data received, the research team will conduct as thorough of an analysis as possible.

Comments: The Colorado Department of Revenue and OOIDA expressed concerns about verification of covered drivers by law enforcement during inspections. OOIDA recommended that some sort of decal or cab card be provided to drivers in the study.

FMCSA's Response: FMCSA will maintain a list of approved motor carriers and covered drivers in the Query Central system. In addition, the covered drivers will be required to carry a copy of a letter from FMCSA to the approved motor carrier and present the letter during inspections or other encounters with law enforcement.

Pilot Program Requirements and Procedures

Information Collection Requirements

As indicated above, the 60-day notice for the ICR associated with this pilot program is published separately in today's Federal Register. The ICR includes the application and consent forms for motor carriers, covered drivers, control group drivers, and intrastate drivers providing information for the pilot program. The ICR also explains the Agency's hypotheses for the pilot program, monthly reporting requirements, and ICR burdens.

The ICR has a 60-day comment period. After review of comments received, FMCSA will make any necessary adjustments on the ICR documents and will publish a subsequent notice advising that the ICR has been submitted to the Office of Management and Budget (OMB).

Announcement of Pilot Program Start

Upon approval of the ICR by OMB, FMCSA will publish, on the Agency's website at www.fmcsa.dot.gov, an announcement that applications are being accepted for participation in the pilot program. The website will also provide links to the application forms and other helpful information for motor carriers and military drivers interested in participating in the pilot program.

Motor Carriers

FMCSA expects to need 70 motor carriers to hire at least 200 covered drivers and with 200 control group drivers and/or 200 intrastate drivers, so that the pilot program anticipates the results/data will allow for conclusions within a confidence level of 0.95 (i.e., significance level of 0.05) and statistical power of 80 percent. More information on the statistical design of the study can be found in Federal Docket FMCSA-2017-0196.

When FMCSA announces approval of the ICR, interested motor carriers will be required to complete the application form. To qualify for participation, the motor carrier must meet the following standards:

1. Must have proper operating authority, if required, and registration;

2. Must have the minimum levels of financial responsibility;

3. Must not be a high or moderate risk motor carrier as defined in the Agency's Federal Register notice titled, “Notification of Changes to the Definition of a High Risk Motor Carrier and Associated Investigation” published on March 7, 2016 (81 FR 11875);

4. Must not have a conditional or unsatisfactory safety rating;

5. Must not have any open or closed enforcement actions within the past 6 years;

6. Must not have a crash rate above the national average;

7. Must not have a driver Out-of-Service (OOS) rate above the national average; and

8. Must not have a vehicle OOS rate above the national average.

In addition, unpaid civil penalties may be grounds to deny participation in the pilot program.

FMCSA will give priority to applications from motor carriers that can supply control group drivers in numbers matching the number of covered drivers to be employed. However, FMCSA may include motor carriers for participation that can only hire covered drivers, control group drivers, or intrastate drivers, if needed to collect sufficient data for the pilot program.

Approval for participation in the pilot program will also be dependent on the motor carrier's agreement to comply with all pilot program procedures, including the monthly submission of data.

Approved motor carriers will be provided a letter acknowledging FMCSA's approval, the carrier's acceptance into the pilot program, and the company's exemption to allow approved covered drivers to operate in interstate commerce. Approved motor carriers will be publicly announced on the Agency's website to encourage potential covered drivers to apply through the identified carriers for participation.

FMCSA will monitor motor carrier and driver performance throughout the pilot program to ensure safety. Motor carriers may be disqualified from the pilot program if the:

1. Carrier does not have proper operating authority, if required, and registration;

2. Carrier does not have the minimum levels of financial responsibility;

3. Carrier is prioritized as a high risk; ¹

¹ Notification of Changes to the Definition of a High Risk Motor Carrier and Associated Investigation Procedures (81 FR 11875) published March 7, 2016.

4. Carrier is prioritized as a moderate risk for 2 consecutive months;

5. Carrier receives a conditional or unsatisfactory safety rating;

6. Carrier is the subject of an open Federal enforcement action pending review (e.g., Imminent Hazard, OOS, Patterns of Safety Violations). Enforcement actions resulting in civil penalties will be reviewed on a case-by-case basis.

7. Carrier has a crash rate above the national average for 3 consecutive months;

8. Carrier has a driver OOS rate above the national average for 3 consecutive months;

9. Carrier has a vehicle OOS rate above the national average for 3 consecutive months; or

10. Carrier failed to report monthly data as required.

FMCSA reserves the right to remove a carrier from the program at its discretion if it is determined there is a safety risk.

As noted in the associated ICR documents, approved carriers will be required to submit monthly reports of data. In addition, motor carriers will be required to advise FMCSA if a participating driver is involved in a crash with injury or fatality; a driver is convicted of a major or serious offense in accordance with 49 CFR 383.51; a participating pilot, control or intra-state driver leaves the carrier; or if a participating driver fails a drug test.

If a carrier fails to provide the required data on time, this may be grounds for removal from the pilot program.

Covered Drivers

Interested drivers must obtain from their commanding officer, or the official designee, certification that the applicant had formal training and experience in the operation of heavy motor vehicles while in military service in one of the following MOS:

1. 88M—Motor Transport Operator (Army)

2. 92F—Fueler (Army)

3. 2T1—Vehicle Operations (Air Force)

4. 2Fo—Fueler (Air Force),

5. 3E2—Pavement and Construction Equipment (Air Force)

6. E.O.—Equipment Operator (Navy); or

7. 3531—Motor Vehicle Operator (Marine Corps).

A motor carrier may not approve a covered driver for participation in the pilot program if during the 2-year period immediately preceding the date of hire, the covered driver:

1. Had more than one license (except for a military license);

2. Had his or her license suspended, revoked, cancelled or disqualified for a violation related to 49 CFR 383.51 in the home State of record or any State;

3. Had any conviction for a violation of military, State or local law relating to motor vehicle traffic control (other than parking violation) arising in connection with any traffic crash and have no record of a crash in which he/she was at fault; or

4. Has been convicted of any violations described below in any type of motor vehicle.

○ Has been under the influence of alcohol as prescribed by State law;

○ Has been under the influence of a controlled substance;

○ Had an alcohol concentration of 0.04 or greater while operating a CMV;

○ Refused to take an alcohol test as required by a State under its implied consent laws or regulations as defined in 49 CFR 383.72;

○ Left the scene of a crash;

○ Used the vehicle to commit a felony;

○ Drove a CMV while his or her CDL is revoked, suspended, cancelled; or he or she is disqualified from operating a CMV;

○ Caused a fatality through the negligent operation of a CMV (including motor vehicle manslaughter, homicide by motor vehicle, or negligent homicide);

○ Had more than one conviction for any of the violations described below in any type of motor vehicle;

○ Drove recklessly, as defined by State or local law or regulation (including offenses of driving a motor vehicle in willful or wanton disregard for the safety of persons or property);

○ Drove a CMV without obtaining a CDL;

○ Violated a State or local law or ordinance on motor vehicle traffic control prohibiting texting while driving; or

○ Violated a State or local law or ordinance on motor vehicle traffic control restricting or prohibiting the use of a hand held mobile telephone while driving.

If the motor carrier agrees to sponsor/hire the driver, the covered driver must also agree to the release of specific information to FMCSA for purposes of the pilot program, as is noted in the ICR notice published in today's Federal Register.

If at any time while participating in this pilot program, a driver is disqualified for a major offense, serious traffic violations, railroad-highway grade crossing, or violation of an out-of-service order, as outlined in 49 CFR 383.51 of the FMCSRs, he or she will be disqualified/removed from the program.

Approved covered drivers may not transport passengers or hazardous materials, or operate double- or triple-trailer combinations or cargo tank vehicles while participating in the pilot program, regardless of any license endorsements held.

If a driver reaches age 21 during the pilot program, the driver will no longer be considered a covered driver. However, FMCSA expects the motor carrier to submit monthly data on the driver for the remainder of the pilot program to provide additional data for consideration.

If a covered driver leaves the approved motor carrier during the pilot program, he/she is not approved to operate in interstate commerce unless re-employed with another approved motor carrier participating in the pilot program. If a covered driver leaves the employment of the approved motor carrier, FMCSA must be advised within 5 days. A new covered driver application must be submitted for any new/additional hires by the approved motor carrier so that FMCSA can verify eligibility as part of the Agency's oversight of the pilot program.

Control Group

Control group drivers must be 21 to 24 years old. These drivers will be required to possess a valid CDL; drive for the participating motor carrier; have no disqualifications, suspensions, or license revocations within past 3 years; or be subject to any OOS order; and agree to the release of specified information for use in assessing the safety of covered drivers in pilot program.

Intrastate Drivers

Section 5404 of the FAST Act requires FMCSA to compare the covered drivers to other 18-, 19-, and 20-year-old drivers operating CMVs in intrastate commerce, and specifically to analyze crash rates. Motor carriers with intrastate drivers who are 18, 19 or 20 years old will be asked to provide the monthly report data on these drivers too, as a condition of participating in this pilot program.

Monitoring and Oversight

FMCSA will review both monthly data submitted by approved motor carriers and its own databases including, but not limited to, the Motor Carrier Management Information System, Safety Measurement System, Commercial Driver License Information System, and the Licensing and Insurance system. FMCSA reserves the right to remove any motor carrier or driver from the pilot program for reasons including, but not limited to, failing to meet any of the requirements of the program.

Length of Program

FMCSA expects this program to run 3 years but may conclude the program sooner if there is sufficient data to analyze the safety of covered drivers.

Issued on: June 7, 2018.
Raymond P. Martinez,
Administrator.

[FR Doc. 2018-14025 Filed 7-3-18; 4:15 pm]

BILLING CODE 4910-EX-P